DEPARTMENT OF HEALTH AND HUMAN SERVICES

Centers for Disease Control and Prevention

Disease, Disability, and Injury Prevention and Control Special Emphasis Panel: HIV II—Identifying Ground-Breaking Behavioral Interventions To Prevent HIV Transmission, Program Announcement (PA) PS06-005; Reducing Sexual Risk HIV Acquisition and Transmission, PA PS06-007 and HIV Prevention Intervention Research With HIV Positive Incarcerated Populations, PA PS06-011

Correction: This notice was published in the Federal Register on May 26, 2006, Volume 71, Number 102, page 30420. The date of the Special Emphasis Panel meeting has been changed to July 14, 2006.

Titles: HIV II—Identifying Ground-Breaking Behavioral Interventions to Prevent HIV Transmission, Program Announcement (PA) PS06-005; Reducing Sexual Risk HIV Acquisition and Transmission, PA PS06-007 and HIV Prevention Intervention Research With HIV Positive Incarcerated Populations, PA PS06-011.

FOR FURTHER INFORMATION CONTACT: Chris Langub, Ph.D., Scientific Review Administrator, National Institute for Occupational Safety and Health, CDC, 1600 Clifton Road NE., Mailstop D72, Atlanta, GA 30333, Telephone 404-639-4640.

The Director, Management Analysis and Services Office, has been delegated the authority to sign Federal Register notices pertaining to announcements of meetings and other committee management activities, for both CDC and the Agency for Toxic Substances and Disease Registry.

Dated: June 9, 2006.
Alvin Hall,
Director, Management Analysis and Services Office,Centers for Disease Control and Prevention.

[FR Doc. E6-9444 Filed 6-15-06; 8:45 am]

BILLING CODE 4163-18-P